DEPARTMENT OF DEFENSE

Office of the Secretary

[Transmittal No. 24-79]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-79, Policy Justification, and Sensitivity of Technology.

Dated: November 18, 2025.
Stephanie J. Bost,
Alternate OSD Federal Register Liaison Officer, Department of Defense.

BILLING CODE 6001-FR-P

BILLING CODE 6001-FR-C

Transmittal No. 24-79

Notice of Proposed Issuance of Letter of Offer Pursuant to Section 36(b)(1) of the Arms Export Control Act, as amended

(i) Prospective Purchaser: Government of India

(ii) Total Estimated Value:

Major Defense Equipment* | $ 0
Other | $52.8 million
TOTAL | $52.8 million

Funding Source: National Funds

(iii) Description and Quantity or Quantities of Articles or Services under Consideration for Purchase:

Major Defense Equipment (MDE):

None

Non-MDE:

AN/SSQ-53G High Altitude Anti-Submarine Warfare (HAASW) sonobuoys; AN/SSQ-62F HAASW sonobuoys; AN/SSQ-36 sonobuoys; technical and publications and data documentation; United States (U.S.) Government and contractor engineering and technical support; and other related elements of logistics and program services and support.

(iv) Military Department: Navy (IN-P-ABW)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 23, 2024

* as defined in Section 47(6) of the Arms Export Control Act.

POLICY JUSTIFICATION

India—Anti-Submarine Warfare Sonobuoys

The Government of India has requested to buy AN/SSQ-53G High Altitude Anti-Submarine Warfare (HAASW) sonobuoys; AN/SSQ-62F HAASW sonobuoys; AN/SSQ-36 sonobuoys; technical and publications and data documentation; U.S. Government and contractor engineering and technical support; and other related elements of logistics and program services and support. The estimated total cost is $52.8 million.

This proposed sale will support the foreign policy and national security objectives of the U.S. by helping to strengthen the U.S.-India strategic relationship and improving the security of a major defense partner which continues to be an important force for political stability, peace, and economic progress in the Indo-Pacific and South Asia regions.

The proposed sale will improve India's capability to meet current and future threats by enhancing its capacity to conduct anti-submarine warfare operations from its MH-60R helicopters. India will have no difficulty absorbing this equipment into its armed forces.

The proposed sale of this equipment and support will not alter the basic military balance in the region.

The principal contractor(s) will be Sparton Corporation, located in De Leon Springs, FL, or Undersea Sensor Systems Inc. (USSI), located in Columbia City, IN, or a combination of both. There are no known offset agreements proposed in connection with this potential sale.

Implementation of this proposed sale will not require the assignment of any additional U.S. Government or contractor representatives to India.

There will be no adverse impact on U.S. defense readiness as a result of this proposed sale.

Transmittal No. 24-79

Notice of Proposed Issuance of Letter of Offer Pursuant to Section 36(b)(1) of the Arms Export Control Act

Annex

Item No. vii

(vii) Sensitivity of Technology:

1. Sonobuoys are air launched, expendable, electro-mechanical sensors designed to relay underwater sounds to remote processors. Sonobuoys are an effective and affordable anti-submarine warfare (ASW) capability for the airborne ASW warfighter.

2. The highest level of classification of defense articles, components, and services included in this potential sale is Controlled Unclassified Information.

3. If a technologically advanced adversary were to obtain knowledge of the specific hardware and software elements, the information could be used to develop countermeasures that might reduce weapon system effectiveness or be used in the development of a system with similar or advanced capabilities.

4. A determination has been made that India can provide substantially the same degree of protection for the sensitive technology being released as the U.S. Government. This sale is necessary in furtherance of the U.S. foreign policy and national security objectives outlined in the Policy Justification.

5. All defense articles and services listed in this transmittal have been authorized for release and export to the Government of India.

[FR Doc. 2025-21813 Filed 12-2-25; 8:45 am]

BILLING CODE 6001-FR-P